DEPARTMENT OF HEALTH AND HUMAN SERVICES

Centers for Disease Control and Prevention

Prospective Grant of Exclusive License: Vaccines and Diagnostic Tests for Cat Scratch Fever

AGENCY: Centers for Disease Control and Prevention (CDC), Department of Health and Human Services (HHS).

ACTION: Notice.

SUMMARY: This is a notice in accordance with 35 U.S.C. 209(c)(1) and 37 CFR 404.7(a)(1)(i) that the Centers for Disease Control and Prevention (CDC), Technology Transfer Office, Department of Health and Human Services (DHHS), is contemplating the grant of a worldwide, limited field of use, exclusive license to practice the inventions embodied in the patent and patent applications referred to below to Intervet Inc. (Intervet) having a place of business in Millsboro, Delaware. The patent rights in these inventions have been assigned to the government of the United States of America. The patent and patent applications to be licensed are:

Title: Methods and compositions for diagnosing cat scratch disease and bacillary angiomatosis caused by Rochalimaea henselae.

U.S. Patent Application Serial No. 07/822,539.

Filing Date: 01/17/92.

Domestic Status: Patent No.: 5,399,485.

Issue Date: 03/21/95.

Title: Methods and compositions for diagnosing Rochalimaea henselae and Rochalimaea quintana infection.

U.S. Patent Application Serial No. 08/245,294.

Filing Date: 05/18/94.

Domestic Status: Patent No.: 5,644,047.

Issue Date: 07/01/97.

Title: Nucleic acids specific for Rochalimaea quintana.

U.S. Patent Application Serial No. 08/474,499.

Filing Date: 06/07/95.

Domestic Status: Patent No.: 5,693,776.

Issue Date: 12/02/97.

Title: Nucleic acids of Rochalimaea henselae and methods and compositions for diagnosing Rochalimaea henselae and Rochalimaea quintana infection.

U.S. Patent Application Serial No. 08/307,279.

Filing Date: 09/16/94.

Domestic Status: Patent No.: 5,736,347.

Issue Date: 04/07/98.

Title: Composition to protect a mammal against Bartonella henselae infection.

U.S. Patent Application Serial No. 08/922,970.

Filing Date: 09/03/97.

Domestic Status: Patent No.: 5,958,414.

Issue Date: 09/28/99.

Title: Methods and Compositions for Diagnosing Rochalimaea Henselae and Rochalimaea Quintana Infection.

U.S. Patent Application Serial No. 08/472,904.

Filing Date: 06/07/95.

Title: Nucleic acids of Rochalimaea henselae and compositions for diagnosing Rochalimaea henselae and Rochalimaea quintana infection.

U.S. Patent Application Serial No. 08/480,849.

Filing Date: 06/07/95.

Title: Methods and Compositions for Diagnosing Rochalimaea Henselae and Rochalimaea Quintana Infection.

U.S. Patent Application Serial No. 08/472,934.

Filing Date: 06/07/95.

Title: Nucleic Acids of Rochalimaea Hensselae and Compositions for Diagnosing Rochalimaea Henselae and Rochalimaea Quintana Infection.

U.S. Patent Application Serial No. 09/525,310.

Filing Date: 03/14/00.

Title: Nucleic acids of Rochalimaea henselae and compositions for diagnosing Rochalimaea henselae and Rochalimaea quintana infection.

U.S. Patent Application Serial No. 09/752,385.

Filing Date: 12/29/00.

The prospective exclusive license will be royalty-bearing and will comply with the terms and conditions of 35 U.S.C. 209 and 37 CFR 404.7.

Cat scratch fever or bacillary angiomatosis is a bacterial disease transmitted via a cat scratch or bite. A previously unidentified, pathogenic species of Bartonella (formerly Rochalimaea), B. henselae, has been identified as the primary causitive agent. A related species, B. quintana, may also produce illness in immunocompromised individuals. This invention identifies immunogenic peptides useful for indentification of B. henselae and diagnosis of bacillary angiomatosis and a method of vaccinating against bacillary angiomatosis.

ADDRESSES: Requests for a copy of these patent applications, inquiries, comments, and other materials relating to the contemplated license should be directed to Andrew Watkins, Director, Technology Transfer Office, Centers for Disease Control and Prevention (CDC), 4770 Buford Highway, Mailstop K-79, Atlanta, GA 30341, telephone: (770) 488-8610; facsimile: (770) 488-8615. Applications for a license filed in response to this notice will be treated as objections to the grant of the contemplated license. Only written comments and/or applications for a license which are received by CDC within sixty days of this notice will be considered. Comments and objections submitted in response to this notice will not be made available for public inspection, and, to the extent permitted by law, will not be released under the Freedom of Information Act, 5 U.S.C. 552. A signed Confidential Disclosure Agreement will be required to receive a copy of any pending patent application.

Dated: March 4, 2002.
Joseph R. Carter,
Associate Director for Management and Operations, Centers for Disease Control and Prevention.

[FR Doc. 02-5567 Filed 3-7-02; 8:45 am]

BILLING CODE 4163-18-P